DEPARTMENT OF COMMERCE

International Trade Administration

[A-570-010, A-583-853]

Certain Crystalline Silicon Photovoltaic Products from the People's Republic of China and Taiwan: Postponement of Preliminary Determination of Antidumping Duty Investigations

AGENCY: Enforcement and Compliance, International Trade Administration, Department of Commerce.

DATES: Effective Date: May 27, 2014.

FOR FURTHER INFORMATION CONTACT: Jeffrey Pedersen at (202) 482-2769 (the People's Republic of China (“PRC”)); or Magd Zalok at (202) 482-4162 (Taiwan), AD/CVD Operations, Enforcement and Compliance, U.S. Department of Commerce, 14th Street and Constitution Avenue NW., Washington, DC 20230.

SUPPLEMENTARY INFORMATION:

Postponement of Preliminary Determinations

On January 29, 2014, the Department of Commerce (the “Department”) published a notice of initiation of antidumping duty investigations of certain crystalline silicon photovoltaic products from the PRC and and Taiwan.¹ The notice of initiation stated that the Department, in accordance with section 733(b)(1)(A) of the Tariff Act of 1930, as amended (the “Act”), and 19 CFR 351.205(b)(1), would issue its preliminary determinations for these investigations, unless postponed, no later than 140 days after the date of the initiation. The preliminary determinations of these antidumping duty investigations are currently due no later than June 11, 2014.

¹ See Certain Crystalline Silicon Photovoltaic Products from the People's Republic of China and Taiwan: Initiation of Antidumping Duty Investigations, 79 FR 4661 (January 29, 2014).

Pursuant to section 733(c)(1)(B) of the Act and 19 CFR 351.205(b)(2), the Department concludes that the parties involved in these investigations are cooperating and determines that these investigations are extraordinarily complicated by reason of the number and complexity of the transactions to be investigated and adjustments to be considered and the number of firms whose activities must be investigated. Therefore, in accordance with section 733(c)(1)(B) of the Act, the Department determines that it is appropriate to postpone the preliminary determinations in these investigations. Specifically, the Department determines that a 43-day postponement of the preliminary determinations is needed in order to provide the Department with sufficient time to review and analyze questionnaire responses and issue appropriate requests for clarification and additional information.

For the reasons stated above, the Department, in accordance with section 733(c)(1)(B) of the Act, is postponing the deadline for the preliminary determinations to no later than 183 days after the date on which the Department initiated these investigations. Therefore, the new deadline for issuing these preliminary determinations is July 24, 2014. In accordance with section 735(a)(1) of the Act, the deadline for the final determinations of these investigations will continue to be 75 days after the date of the preliminary determinations, unless postponed at a later date.

This notice is issued and published pursuant to section 733(c)(2) of the Act and 19 CFR 351.205(f)(1).

Dated: May 16, 2014.
Ronald K. Lorentzen,
Acting Assistant Secretary for Enforcement and Compliance.

[FR Doc. 2014-12033 Filed 5-23-14; 8:45 am]

BILLING CODE 3510-DS-P